DEPARTMENT OF ENERGY

Federal Energy Regulatory Commission

Combined Notice of Filings

Take notice that the Commission has received the following Natural Gas Pipeline Rate and Refund Report filings:

Filings Instituting Proceedings

Docket Numbers: PR25-49-000.

Applicants: Delta North Louisiana Gas Company, LLC.

Description: § 284.123 Rate Filing: Delta North Louisiana SOC to be effective 4/1/2025.

Filed Date: 4/30/25.

Accession Number: 20250430-5260.

Comment Date: 5 p.m. ET 5/21/25.

Docket Numbers: RP25-864-000.

Applicants: El Paso Natural Gas Company, L.L.C.

Description: § 4(d) Rate Filing: Negotiated Rate Agreements Update (Sempra May 2025) to be effective 5/1/2025.

Filed Date: 4/30/25.

Accession Number: 20250430-5278.

Comment Date: 5 p.m. ET 5/12/25.

Docket Numbers: RP25-865-000.

Applicants: Rockies Express Pipeline LLC.

Description: § 4(d) Rate Filing: REX 2025-04-30 Negotiated Rate Agreements to be effective 5/1/2025.

Filed Date: 4/30/25.

Accession Number: 20250430-5294.

Comment Date: 5 p.m. ET 5/12/25.

Docket Numbers: RP25-866-000.

Applicants: Algonquin Gas Transmission, LLC.

Description: § 4(d) Rate Filing: Negotiated Rates—Various Releases eff 5-1-25 to be effective 5/1/2025.

Filed Date: 4/30/25.

Accession Number: 20250430-5300.

Comment Date: 5 p.m. ET 5/12/25.

Docket Numbers: RP25-867-000.

Applicants: Ruby Pipeline, L.L.C.

Description: § 4(d) Rate Filing: RP 2025-04-30 FL&U and EPC Rate Adjustment to be effective 6/1/2025.

Filed Date: 4/30/25.

Accession Number: 20250430-5307.

Comment Date: 5 p.m. ET 5/12/25.

Docket Numbers: RP25-868-000.

Applicants: Sierrita Gas Pipeline LLC.

Description: § 4(d) Rate Filing: 2025 Apr Quarterly FL&U Filing to be effective 6/1/2025.

Filed Date: 4/30/25.

Accession Number: 20250430-5435.

Comment Date: 5 p.m. ET 5/12/25.

Docket Numbers: RP25-869-000.

Applicants: Alliance Pipeline L.P.

Description: Annual Operational Purchases and Sales Report of Alliance Pipeline L.P.

Filed Date: 4/30/25.

Accession Number: 20250430-5379.

Comment Date: 5 p.m. ET 5/12/25.

Docket Numbers: RP25-870-000.

Applicants: Wyoming Interstate Company, L.L.C.

Description: § 4(d) Rate Filing: Wyoming Interstate Company, L.L.C. submits tariff filing per 154.403(d)(2): Fuel_LU Quarterly Update Filing Eff June 2025 to be effective 6/1/2025.

Filed Date: 4/30/25.

Accession Number: 20250430-5400.

Comment Date: 5 p.m. ET 5/12/25.

Docket Numbers: RP25-871-000.

Applicants: El Paso Natural Gas Company, L.L.C.

Description: § 4(d) Rate Filing: El Paso Natural Gas Company, L.L.C. submits tariff filing per 154.601: Negotiated Rate Agreement Update (SoCal May-July 2025) to be effective 5/1/2025.

Filed Date: 4/30/25.

Accession Number: 20250430-5406.

Comment Date: 5 p.m. ET 5/12/25.

Docket Numbers: RP25-872-000.

Applicants: ANR Pipeline Company.

Description: § 4(d) Rate Filing: Cashout Surcharge 2025 to be effective 6/1/2025.

Filed Date: 4/30/25.

Accession Number: 20250430-5446.

Comment Date: 5 p.m. ET 5/12/25.

Docket Numbers: RP25-873-000.

Applicants: Southeast Supply Header, LLC.

Description: § 4(d) Rate Filing: 2025 SESH TUP/SBA Annual Filing to be effective 6/1/2025.

Filed Date: 5/1/25.

Accession Number: 20250501-5009.

Comment Date: 5 p.m. ET 5/13/25.

Docket Numbers: RP25-874-000.

Applicants: Gulf Run Transmission, LLC.

Description: § 4(d) Rate Filing: Transporter's Use Filing—Effective 6-1-2025 to be effective 6/1/2025.

Filed Date: 5/1/25.

Accession Number: 20250501-5057.

Comment Date: 5 p.m. ET 5/13/25.

Docket Numbers: RP25-875-000.

Applicants: Gulf Run Transmission, LLC.

Description: Compliance filing: System Balancing Adjustment filed on 5-1-2025 to be effective N/A.

Filed Date: 5/1/25.

Accession Number: 20250501-5060.

Comment Date: 5 p.m. ET 5/13/25.

Docket Numbers: RP25-876-000.

Applicants: Gulf Run Transmission, LLC.

Description: Compliance filing: Operational Purchases and Sales of Gas Report Filed on 5-1-2025 to be effective N/A.

Filed Date: 5/1/25.

Accession Number: 20250501-5061.

Comment Date: 5 p.m. ET 5/13/25.

Docket Numbers: RP25-877-000.

Applicants: Northern Border Pipeline Company.

Description: Compliance filing: 2025 Company Use Gas Adjustment Annual Report to be effective N/A.

Filed Date: 5/1/25.

Accession Number: 20250501-5109.

Comment Date: 5 p.m. ET 5/13/25.

Docket Numbers: RP25-878-000.

Applicants: Eastern Gas Transmission and Storage, Inc.

Description: § 4(d) Rate Filing: EGTS—25.05.01 Nonconforming Agreements to be effective 6/1/2025.

Filed Date: 5/1/25.

Accession Number: 20250501-5114.

Comment Date: 5 p.m. ET 5/13/25.

Docket Numbers: RP25-879-000.

Applicants: Rover Pipeline LLC.

Description: § 4(d) Rate Filing: Summary of Negotiated Rate Capacity Release Agreements 5-1-2025 to be effective 5/1/2025.

Filed Date: 5/1/25.

Accession Number: 20250501-5140.

Comment Date: 5 p.m. ET 5/13/25.

Docket Numbers: RP25-880-000.

Applicants: Columbia Gas Transmission, LLC.

Description: § 4(d) Rate Filing: Negotiated Rate Citadel Energy 317287 Eff 5.1.2025 to be effective 5/1/2025.

Filed Date: 5/1/25.

Accession Number: 20250501-5150.

Comment Date: 5 p.m. ET 5/13/25.

Docket Numbers: RP25-881-000.

Applicants: Tennessee Gas Pipeline Company, L.L.C.

Description: § 4(d) Rate Filing: Revised Curtailment Tariff Language to be effective 6/1/2025.

Filed Date: 5/1/25.

Accession Number: 20250501-5174.

Comment Date: 5 p.m. ET 5/13/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 1, 2025.
Carlos D. Clay,
Deputy Secretary.

[FR Doc. 2025-07947 Filed 5-6-25; 8:45 am]

BILLING CODE 6717-01-P